DEPARTMENT OF LABOR

Employment and Training Administration

[TA-W-59,468]

Intier Automotive Seating, Warren, OH; Dismissal of Application for Reconsideration

Pursuant to 29 CFR 90.18(c) an application for administrative reconsideration was filed with the Director of the Division of Trade Adjustment Assistance for workers at Intier Automotive Seating, Warren, Ohio. The application did not contain new information supporting a conclusion that the determination was erroneous, and also did not provide a justification for reconsideration of the determination that was based on either mistaken facts or a misinterpretation of facts or of the law. Therefore, dismissal of the application was issued.

TA-W-59,468; Intier Automotive Seating, Warren, Ohio (August 17, 2006).

Signed at Washington, DC, this 21st day of August 2006.
Erica R. Cantor,
Acting Director, Division of Trade Adjustment Assistance.

[FR Doc. E6-14322 Filed 8-28-06; 8:45 am]

BILLING CODE 4510-30-P